DEPARTMENT OF ENERGY

Federal Energy Regulatory Commission

Combined Notice of Filings #1

Take notice that the Commission received the following electric corporate filings:

Docket Numbers: EC15-139-000.

Applicants: Coram California Development, L.P.

Description: Application of Coram California Development, L.P. for Authorization under Section 203 of the Federal Power Act and Requests for Confidential Treatment and Waivers.

Filed Date: 5/13/15.

Accession Number: 20150513-5209.

Comments Due: 5 p.m. ET 6/3/15.

Docket Numbers: EC15-140-000.

Applicants: ALLETE Clean Energy, Inc., MWW Holdings, LLC, CITIBANK, N.A., AS SECURITY AGENT, AES Armenia Mountain Wind, LLC.

Description: Joint Application for Authorization Under Section 203 of the Federal Power Act and Request for Expedited Consideration, Confidential Treatment, and Waivers of ALLETE Clean Energy, Inc., et al.

Filed Date: 5/14/15.

Accession Number: 20150514-5108.

Comments Due: 5 p.m. ET 6/4/15.

Take notice that the Commission received the following electric rate filings:

Docket Numbers: ER10-1556-007.

Applicants: Longview Power, LLC.

Description: Notice of Change in Status of Longview Power, LLC.

Filed Date: 5/13/15.

Accession Number: 20150513-5211.

Comments Due: 5 p.m. ET 6/3/15.

Docket Numbers: ER15-1701-000.

Applicants: PJM Interconnection, L.L.C.

Description: § 205(d) rate filing per 35.13(a)(2)(iii): First Revised Service Agreement No. 1127; Queue Nos. Z1-055 and Z1-056 to be effective 4/13/2015.

Filed Date: 5/13/15.

Accession Number: 20150513-5089.

Comments Due: 5 p.m. ET 6/3/15.

Docket Numbers: ER15-1703-000.

Applicants: PJM Interconnection, L.L.C.

Description: § 205(d) rate filing per 35.13(a)(2)(iii): Revisions to OATT Att K-Appx and OA Schedule 1 re FTR Miscellaneous Changes to be effective 7/13/2015.

Filed Date: 5/13/15.

Accession Number: 20150513-5133.

Comments Due: 5 p.m. ET 6/3/15.

Docket Numbers: ER15-1704-000.

Applicants: Public Service Company of Colorado.

Description: § 205(d) rate filing per 35.13(a)(2)(iii): 2015-5-13 NSP-Ada T-L Filing-Non-conforming to be effective 1/1/2015.

Filed Date: 5/13/15.

Accession Number: 20150513-5135.

Comments Due: 5 p.m. ET 6/3/15.

Docket Numbers: ER15-1705-000.

Applicants: Public Service Company of Colorado.

Description: § 205(d) rate filing per 35.13(a)(2)(iii): 20150513_Burlington Wheeling Charges to be effective 10/1/2014.

Filed Date: 5/13/15.

Accession Number: 20150513-5137.

Comments Due: 5 p.m. ET 6/3/15.

Docket Numbers: ER15-1706-000.

Applicants: Newark Energy Center, LLC.

Description: Initial rate filing per 35.12 Application re Reactive Power Tariff to be effective 7/1/2015.

Filed Date: 5/13/15.

Accession Number: 20150513-5149.

Comments Due: 5 p.m. ET 6/3/15.

Docket Numbers: ER15-1707-000.

Applicants: San Diego Gas & Electric Company.

Description: Initial rate filing per 35.12 System Impact Study Agreement, Service Agreement No. 50 to be effective 5/13/2015.

Filed Date: 5/13/15.

Accession Number: 20150513-5156.

Comments Due: 5 p.m. ET 6/3/15.

Docket Numbers: ER15-1708-000.

Applicants: L'Anse Warden Electric Company.

Description: Compliance filing per 35: Amendment to be effective 4/7/2015.

Filed Date: 5/13/15.

Accession Number: 20150513-5184.

Comments Due: 5 p.m. ET 6/3/15.

Docket Numbers: ER15-1709-000.

Applicants: New York Independent System Operator, Inc., Niagara Mohawk Power Corporation.

Description: § 205(d) rate filing per 35.13(a)(2)(iii): IA (SA No. 2211) between National Grid and the Village of Skaneateles to be effective 3/31/2015.

Filed Date: 5/14/15.

Accession Number: 20150514-5009.

Comments Due: 5 p.m. ET 6/4/15.

Docket Numbers: ER15-1710-000.

Applicants: ISO New England Inc.

Description: ISO New England Inc. submits First Quarter 2015 Capital Budget Report.

Filed Date: 5/13/15.

Accession Number: 20150513-5199.

Comments Due: 5 p.m. ET 6/3/15.

Docket Numbers: ER15-1711-000.

Applicants: Tampa Electric Company.

Description: § 205(d) rate filing per 35.13(a)(2)(iii): OATT Order 676-H Ministerial Filing to be effective 5/16/2015.

Filed Date: 5/14/15.

Accession Number: 20150514-5067.

Comments Due: 5 p.m. ET 6/4/15.

Docket Numbers: ER15-1712-000.

Applicants: Duke Energy Florida, Inc., Duke Energy Carolinas, LLC.

Description: § 205(d) rate filing per 35.13(a)(2)(iii): OATT Schedule 10-A Amendment to be effective 1/1/2014.

Filed Date: 5/14/15.

Accession Number: 20150514-5070.

Comments Due: 5 p.m. ET 6/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2015.
Nathaniel J. Davis, Sr.,
Deputy Secretary.

[FR Doc. 2015-12179 Filed 5-19-15; 8:45 am]

BILLING CODE 6717-01-P